DEPARTMENT OF THE INTERIOR

National Park Service

[NPS-WASO-NAGPRA-21139; PPWOCRADN0-PCU00RP14.R50000]

Notice of Inventory Completion: University of Pennsylvania Museum of Archaeology and Anthropology, Philadelphia, PA

AGENCY: National Park Service, Interior.

ACTION: Notice.

SUMMARY: The University of Pennsylvania Museum of Archaeology and Anthropology has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the University of Pennsylvania Museum of Archaeology and Anthropology. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the University of Pennsylvania Museum of Archaeology and Anthropology at the address in this notice by July 8, 2016.

ADDRESSES: Dr. Julian Siggers, University of Pennsylvania Museum of Archaeology and Anthropology, 3260 South Street, Philadelphia, PA 19104, telephone (215) 898-4050.

SUPPLEMENTARY INFORMATION: Notice is here given in accordance with the Native American Graves Protection and Repatriation Act (NAGPRA), 25 U.S.C. 3003, of the completion of an inventory of human remains under the control of the University of Pennsylvania Museum of Archaeology and Anthropology, Philadelphia, PA. The human remains were removed from an unknown site in Wayne County, MI and Cuyahoga County, OH.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Pennsylvania Museum of Archaeology and Anthropology professional staff in consultation with representatives of the Pokagon Band of Potawatomi Indians, Michigan and Indiana; Wyandotte Nation; and the Michigan Anishinaabek Cultural Preservation and Repatriation Alliance (MACPRA), a non-federally recognized entity which represents the following federally recognized groups: Bay Mills Indian Community, Michigan; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Bands of Odawa Indians, Michigan; Match-e-be-nash-she-wish Band of Pottawatomi Indians of Michigan; Nottawaseppi Huron Band of the Pottawatomi, Michigan (previously listed as the Huron Potawatomi, Inc.); Saginaw Chippewa Indian Tribe of Michigan; and the Sault Ste. Marie Tribe of Chippewa Indians, Michigan.

History and Description of the Remains

In 1844, human remains representing, at minimum, two individuals were removed by Lt. Montgomery C. Meigs from an unknown mound site in Wayne County, MI. According to museum and archival documents, the human remains were discovered in the immediate vicinity of Detroit and sent to Samuel G. Morton for inclusion in his collection of human crania from around the world prior to 1846. The human remains are represented by a cranium (no mandible) of a single adult female 35-45 years of age and a cranium (no mandible) of a probable male 30-40 years of age. No known individuals were identified. No associated funerary objects are present.

At an unknown date prior to 1839, human remains representing, at minimum, one individual were removed by Dr. George Mendenhall from an unknown site in Cuyahoga County, OH, and were sent to Samuel G. Morton for inclusion in his collection of human crania from around the world prior to 1846. According to museum and archival documents, the human remains were discovered near Cleveland, Cuyahoga County, OH. The human remains are represented by a cranium (no mandible) of a single female 35-45 years of age. No known individuals were identified. No associated funerary objects are present.

At an unknown date prior to 1839, human remains representing, at minimum, one individual were removed by Dr. Sturum from an unknown location near Detroit, Wayne County, MI. After his death, the human remains came into possession of the executor of Sturum's estate and were sent to Samuel G. Morton for inclusion in his collection of human crania from around the world prior to 1846. The human remains are represented by a cranium and mandible of a male, 50+ years of age. Museum and archival documents identified this individual as a “chief, who was slain in a broil with his son-in-law.” No known individuals were identified. No associated funerary objects are present.

Dr. Morton published his collection in several catalogues (1839, 1840, and 1849). In 1853, Dr. Morton's collection, including all the human remains described above, were purchased from Dr. Morton's estate and formally presented to the Academy of Natural Sciences. In 1966, Dr. Morton's collection was loaned to the University of Pennsylvania Museum of Archaeology and Anthropology. In 1997, the collection was formally gifted to the University of Pennsylvania Museum of Archaeology and Anthropology.

Literature from the museum, collectors, and publications indicate that the four sets of human remains date to the Historic Period. The human remains have been identified as Native American based on specific cultural and geographic attribution in the museum records. Collector records, museum documentation and published sources identify the human remains above as Wyandot (Huron). Scholarly publications and land cession records indicate that the areas from which the human remains were removed are within the traditional aboriginal territory of the Wyandot (Huron) Indians and many known historic Wyandot (Huron) occupation sites within these areas have been identified.

Determinations Made by the University of Pennsylvania Museum of Archaeology and Anthropology

Officials of the University of Pennsylvania Museum of Archaeology and Anthropology have determined that:

• Pursuant to 25 U.S.C. 3001(9), the human remains described in this notice represent the physical remains of four individuals of Native American ancestry.

• Pursuant to 25 U.S.C. 3001(2), there is a relationship of shared group identity that can be reasonably traced between the Native American human remains and Wyandotte Nation.

Additional Requestors and Disposition

Lineal descendants or representatives of any Indian tribe or Native Hawaiian organization not identified in this notice that wish to request transfer of control of these human remains should submit a written request with information in support of the request to Dr. Julian Siggers, University of Pennsylvania Museum of Archaeology and Anthropology, 3260 South Street, Philadelphia, PA 19104, telephone (215) 898-4050, by July 8, 2016. After that date, if no additional requestors have come forward, transfer of control of the human remains to the Wyandotte Nation may proceed.

The University of Pennsylvania Museum of Archaeology and Anthropology is responsible for notifying the Bay Mills Indian Community, Michigan; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Bands of Odawa Indians, Michigan; Match-e-be-nash-she-wish Band of Pottawatomi Indians of Michigan; Nottawaseppi Huron Band of the Pottawatomi, Michigan (previously listed as the Huron Potawatomi, Inc.); Saginaw Chippewa Indian Tribe of Michigan; and the Sault Ste. Marie Tribe of Chippewa Indians, Michigan, that this notice has been published.

Dated: May 23, 2016.
Melanie O'Brien,
Manager, National NAGPRA Program.

[FR Doc. 2016-13597 Filed 6-7-16; 8:45 am]

BILLING CODE 4312-50-P